DEPARTMENT OF ENERGY

Office of Science; High Energy Physics Advisory Panel

AGENCY: Department of Energy.

ACTION: Notice of open meeting.

SUMMARY: This notice announces a meeting of the High Energy Physics Advisory Panel (HEPAP). Federal Advisory Committee Act (Pub. L. 92-463, 86 Stat. 70) requires that public notice of these meetings be announced in the Federal Register.

DATES: Monday, July 11, 2005; 9 a.m. to 6 p.m. and Tuesday, July 12, 2005; 9 a.m. to 1 p.m.

ADDRESSES: The Madison, 15th & M Streets, NW., Washington, DC 20005.

FOR FURTHER INFORMATION CONTACT: Bruce Strauss, Executive Secretary; High Energy Physics Advisory Panel; U.S. Department of Energy; SC-25/Germantown Building, 1000 Independence Avenue, SW., Washington, DC 20585-1290; Telephone: 301-903-3705.

SUPPLEMENTARY INFORMATION: Purpose of Meeting: To provide advice and guidance on a continuing basis with respect to the high energy physics research program.

Tentative Agenda: Agenda will include discussions of the following:

Monday, July 11, 2005, and Tuesday, July 12, 2005

○ Discussion of Department of Energy High Energy Physics Programs

○ Discussion of National Science Foundation Elementary Particle Physics Program

○ Reports on and Discussions of Topics of General Interest in High Energy Physics

○ Public Comment (10-minute rule)

Public Participation: The meeting is open to the public. If you would like to file a written statement with the Panel, you may do so either before or after the meeting. If you would like to make oral statements regarding any of these items on the agenda, you should contact Bruce Strauss, 301-903-3705 or Bruce.Strauss@science.doe.gov (e-mail). You must make your request for an oral statement at least 5 business days before the meeting. Reasonable provision will be made to include the scheduled oral statements on the agenda. The Chairperson of the Panel will conduct the meeting to facilitate the orderly conduct of business. Public comment will follow the 10-minute rule.

Minutes: The minutes of the meeting will be available for public review and copying within 90 days at the Freedom of Information Public Reading Room; Room 1E-190; Forrestal Building; 1000 Independence Avenue, SW., Washington, DC, between 9 a.m. and 4 p.m., Monday through Friday, except Federal holidays.

Issued at Washington, DC, on June 16, 2005.
R. Samuel,
Deputy Advisory Committee Management Officer.

[FR Doc. 05-12288 Filed 6-21-05; 8:45 am]

BILLING CODE 8010-01-P